DEPARTMENT OF THE INTERIOR

Fish and Wildlife Service

[Docket No. FWS-HQ-IA-2018-0041; FXIA16710900000-178-FF09A30000]

Foreign Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before October 24, 2018.

ADDRESSES: Submitting Comments: You may submit comments by one of the following methods:

• Federal eRulemaking Portal: http://www.regulations.gov. Follow the instructions for submitting comments on Docket No. FWS-HQ-IA-2018-0041.

• U.S. mail or hand-delivery: Public Comments Processing, Attn: Docket No. FWS-HQ-IA-2018-0041; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section below for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Brenda Tapia, (703) 358-2104 (telephone); DMAFR@fws.gov (email).

II. Background

To help us carry out our conservation responsibilities for affected species, and in consideration of section 10(a)(1)(A) of the Endangered Species Act of 1973, as amended (ESA; 16 U.S.C. 1531 et seq.), we invite public comment on permit applications before final action is taken. With some exceptions, the ESA prohibits activities with listed species unless Federal authorization is acquired that allows such activities. Permits issued under section 10 of the ESA allow activities for scientific purposes or to enhance the propagation or survival of the affected species.

III. Permit Applications

Applicant: Michigan Department of Natural Resources, Marquette, MI; Permit No. 38760B

The applicant requests amendment of a current permit, to add wolf (Canis lupus), to export samples for scientific research purposes. This notification covers activities to be conducted by the applicant over a 5-year period.

Applicant: Duke University, Durham, NC; Permit No. 69393C

The applicant requests a permit to re-export serum samples derived from bonobos (Pan paniscus) to Duke-NUS Medical School for scientific research purposes. This notification is for a single re-export.

Applicant: Project Survival, Dunlap, CA; Permit No. 73174C

The applicant requests a permit to import one female cheetah (Acinonyx jubatus) from Cango Wildlife Ranch, Port Elizabeth, South Africa, to enhance the propagation or survival of the species. This notification is for a single import.

Applicant: Animal Ark, Inc., Reno, NV; Permit No. 74719C

The applicant requests a permit to import one female cheetah (Acinonyx jubatus) from Cango Wildlife Ranch, Port Elizabeth, South Africa, to enhance the propagation or survival of the species. This notification is for a single import.

Applicant: Dos Hijos Ranch—Operations, Inc., Benavides, TX; Permit No. 75297A

The applicant requests renewal of a captive-bred wildlife registration under 50 CFR 17.21(g) for barasingha (Rucervus duvaucelii), which is listed as swamp deer (Rucervus duvaucelii), to enhance species propagation or survival. This notification covers activities to be conducted by the applicant over a 5-year period.

Applicant: Double Arrow Bow Hunting, Harwood, TX; Permit No. 88038A

The applicant requests renewal of a captive-bred wildlife registration under 50 CFR 17.21(g) for barasingha (Rucervus duvaucelii), which is listed as swamp deer (Rucervus duvaucelii), to enhance species propagation or survival. This notification covers activities to be conducted by the applicant over a 5-year period.

Applicant: Species Survival, LLC, Indiantown, FL; Permit No. 70659C

The applicant requests a captive-bred wildlife registration under 50 CFR 17.21(g) for golden parakeet (Aratinga guarouba) to enhance species propagation or survival. This notification covers activities to be conducted by the applicant over a 5-year period.

Applicant: Andy Nguyen, Huntington Beach, CA; Permit No. 84343C

The applicant requests a captive-bred wildlife registration under 50 CFR 17.21(g) for radiated tortoise (Geochelone radiata), to enhance species propagation or survival. This notification covers activities to be conducted by the applicant over a 5-year period.

Applicant: Coastal Exotics Inc., Jacksonville, FL; Permit No. 03596B

The applicant requests renewal of a captive-bred wildlife registration under 50 CFR 17.21(g) for radiated tortoise (Geochelone radiata), to enhance species propagation or survival. This notification covers activities to be conducted by the applicant over a 5-year period.

Applicant: Nancy Speed, Benton, MS; Permit No. 84335C

The applicant requests a captive-bred wildlife registration under 50 CFR 17.21(g) for golden parakeet (Aratinga guarouba) and Vinaceous-breasted parrot (Amazona vinacea), to enhance species propagation or survival. This notification covers activities to be conducted by the applicant over a 5-year period.

Applicant: Alan Flynn, Brockton, MA; Permit No. 84338C

The applicant requests a captive-bred wildlife registration under 50 CFR 17.21(g) for radiated tortoise (Geochelone radiata), to enhance species propagation or survival. This notification covers activities to be conducted by the applicant over a 5-year period.

Applicant: Circle E Ranch, Bedias, TX; Permit No. 88649A

The applicant requests renewal of a captive-bred wildlife registration under 50 CFR 17.21(g) for barasingha (Rucervus duvaucelii), which is listed as swamp deer (Rucervus duvaucelii), and red lechwe (Kobus leche), to enhance species propagation or survival. This notification covers activities to be conducted by the applicant over a 5-year period.

Applicant: International Crane Foundation, Baraboo, WI; Permit No. 85311C

The applicant requests a captive-bred wildlife registration under 50 CFR 17.21(g) for hooded crane (Grus monacha), black-necked crane (Grus nigricollis), Siberian crane (Grus leucogeranus), red-crowned crane (Grus japonensis), and white-naped crane (Grus vipio) to enhance species propagation or survival. This notification covers activities to be conducted by the applicant over a 5-year period.

Applicant: Louisiana State University Shirley C. Tucker Herbarium, Baton Rouge, LA; Permit No. 84873C

The applicant requests a permit to export and reimport nonliving museum/herbarium specimens of endangered and threatened species (excluding animals) previously legally accessioned into the applicant's collection for scientific research. This notification covers activities to be conducted by the applicant over a 5-year period.

Applicant: Utah State University, Logan, UT; Permit No. 92157A

The applicant requests renewal of a permit for the export/re-export and reimport nonliving museum/herbarium specimens of endangered and threatened species (excluding animals) previously legally accessioned into the applicant's collection for scientific research. This notification covers activities to be conducted by the applicant over a 5-year period.

Applicant: Double Arrow Bow Hunting, Harwood, TX; Permit No. 88044A

The applicant requests a permit authorizing the culling of excess barasingha (Rucervus duvaucelii), which is listed as swamp deer (Rucervus duvaucelii), from the captive herd maintained at the applicant's facility, to enhance the species' propagation and survival. This notification covers activities to be conducted by the applicant over a 5-year period.

Applicant: Circle E Ranch, Bedias, TX; Permit No. 88651A

The applicant requests a permit authorizing the culling of excess barasingha (Rucervus duvaucelii), which is listed as swamp deer (Rucervus duvaucelii), and red lechwe (Kobus lechwe) from the captive herd maintained at the applicant's facility, to enhance the species' propagation and survival. This notification covers activities to be conducted by the applicant over a 5-year period.

Trophy Applicants

The following applicants each request a permit to import sport-hunted trophies of a male bontebok (Damaliscus pygargus pygargus) culled from a captive herd maintained under the management program of the Republic of South Africa, for the purpose of enhancing the propagation or survival of the species.

Applicant: Haroutyun Alajayan, Chatsworth, CA; Permit No. 83079C

Applicant: Robert Boyce, Baton Rouge, LA; Permit No. 78626C

Applicant: Kirk Woodward, Vernal, UT; Permit No. 84909C

Applicant: Robert Gwin, Oklahoma City, OK; Permit No. 78721C

Applicant: Roger Ditto, Snohomish, WA; Permit No. 84786C

Applicant: Jason Soulliere, Romeo, MI; Permit No. 80967C

Applicant: Michael Habel, Taylorsville, UT; Permit No. 81189C

Applicant: Jorge Vazquez, Homestead, FL; Permit No. 78078C

Applicant: Brian Spicer, Prosper, TX; Permit No. 70061C

IV. Next Steps

If we issue permits to any of the applicants listed in this notice, we will publish a notice in the Federal Register. You may locate the notice announcing the permit issuance date by searching http://www.regulations.gov for the permit number listed above in this document (e.g., 12345A).

V. Authority

We issue this notice under the authority of the Endangered Species Act of 1973, as amended (16 U.S.C. 1531 et seq.), and its implementing regulations.

Brenda Tapia,
Program Analyst/Data Administrator, Branch of Permits, Division of Management Authority.

[FR Doc. 2018-20653 Filed 9-21-18; 8:45 am]

BILLING CODE 4333-15-P